DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 25, 2016 through August 5, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
86,116 | QG Printing II Corporation, Express | Portland, OR | June 22, 2014.
91,507 | Seneca Foods Corporation | Buhl, ID | February 9, 2015.
91,702 | Seissenschmidt Corporation, USA Division, Linamar-Seissenschmidt Forging LFC, Seissenschmidt GMBH, etc | Oscoda, MI | April 13, 2015.
91,891 | Tokyo Ohka Kogyo America, Inc., Tokyo Ohka Kogyo, Ltd. Co., Aerotek, Addeco, Kelly Services | Hillsboro, OR | June 8, 2015.
91,968 | Noranda Intermediate Holding Corporation, Vaco | Franklin, TN | June 27, 2015.
91,968A | Norandal USA, Inc., Noranda Intermediate Holding Corporation, Great Rivers, etc | Huntington, TN | June 27, 2015.
91,968B | Norandal USA, Inc., Noranda Intermediate Holding Corporation, Resourcemfg, etc | Salisbury, NC | December 3, 2015.

The following certifications have been issued. The requirements of Section 222(a)(2)(B) (shift in production or services) of the Trade Act have been met.

TA-W No. | Subject firm | Location | Impact date
90,048 | Atmel Corporation | Colorado Springs, CO | June 5, 2015.
90,048A | Kelly Services, ProUnlimited, Add Staff, Atmel Corporation | Colorado Springs, CO | January 1, 2014.
90,241 | SASOL, Wood Group Production Consulting Services, Inc | Tulsa, OK | January 1, 2014.
91,134 | Meritor Heavy Vehicle Systems, LLC, Meritor, Inc | Heath, OH | November 19, 2015.
91,237 | Siemens Industry, Inc., Process Industries and Drive Division | Norwood, OH | November 17, 2014.
91,392 | Graphic Packaging International Inc., Graphic Packaging Holding Company | Renton, WA | January 25, 2015.
91,648 | Ciena Corporation, Product Supply Chain Group, Networking Platforms Division, etc | Linthicum, MD | March 30, 2015.
91,834 | International Business Machines Corporation (IBM), Cloud Storage Manager Services, Global Technology Services Division, etc | Boulder, CO | May 20, 2015.
91,853 | Yellow Pages Digital Media Solutions, LLC, Information Systems and Information Technology Division, etc | Blue Bell, PA | May 16, 2015.
91,855 | CH2M Inc., CH2M HILL Companies Ltd., Division of Finance and Accounting | Englewood, CO | May 12, 2015.
91,858 | John Crane Inc. (JCI), Smiths Group, Cielo | Morton Grove, IL | May 25, 2015.
91,865 | DLA, Inc., Sercotel, S.A. de C.V., TFI Resources, Inc | Doral, FL | May 26, 2015.
91,885 | Caterpillar, Inc., CR Coatings, The Tool Gage House, Vonachen Services, Inc., etc | Joliet, IL | June 6, 2015.
91,906 | Hewlett Packard Enterprise, Service Management-Onboarding Division | Plano, TX | June 10, 2015.
91,920 | Compucom Systems, Inc., Dallas Service Desk | Dallas, TX | June 14, 2015.
91,928 | Caterpillar, Inc./Balderson, Work Tools Division, Caterpillar, Inc | Jacksonville, FL | June 15, 2015.
91,943 | ALM Media LLC, ALM Media, Inc | New York, NY | June 21, 2015.
91,949 | One Call Care Management, Align Networks Division (SmartComp), ECA Staffing Solutions, Inc., etc | Canonsburg, PA | June 22, 2015.
91,950 | Branded Entertainment Network, Inc., Corbis Corporation, Branded Entertainment Network Holdings, Inc., SCOM, etc | Seattle, WA | June 20, 2015.
91,960 | Dana Commercial Vehicle Manufacturing LLC, Dana Holding Corporation, Bluegrass and Associates, Ahead Staffing | Glasgow, KY | June 26, 2015.
91,961 | Aurora Casket Company, D/B/A Matthews-Aurora Funeral Solutions, Belflex Staffing Belcan Staffing | Aurora, IN | June 24, 2015.
91,965 | Masonite D/B/A Algoma Hardwoods, ABR | Algoma, WI | June 24, 2015.
91,975 | Cascades U.S. Holdings Cascades Auburn Fiber, Cascades, Inc | Auburn, ME | June 29, 2015.
91,976 | Motorola Solutions, Inc., Products and Services, Devices Engineering Development Team, etc | Schaumburg, IL | June 29, 2015.
91,979 | GE Transportation Engine System, GE Transportation Division | Latham, NY | July 1, 2015.
91,981 | GAP Sample Room, Gap Inc., Prounlimited | New York, NY | April 22, 2015.
91,986 | Grede II LLC, Bessemer (Foundry) Division, Metaldyne Performance Group, etc | Bessemer, AL | July 5, 2015.
91,987 | Solera Holdings Inc., Audatex North America Division, Database Development Group (DBD), etc | San Diego, CA | July 5, 2015.
91,991 | Caterpillar Precision Engine Components, Industry Solutions, Components, and Distribution Division, etc | Morganton, NC | July 6, 2015.
91,997 | Pall Corporation, Validation Testing Division | Port Washington, NY | July 7, 2015.
92,009 | Epicor Software Corporation, EGL Holdco, Inc., Zero Chaos, Wildes Enterprises | Westminster, CO | July 12, 2015

The following certifications have been issued. The requirements of Section 222(b) (supplier to a firm whose workers are certified eligible to apply for TAA) of the Trade Act have been met.

TA-W No. | Subject firm | Location | Impact date
91,618 | Kato Engineering, Inc | North Mankato, MN | March 22, 2015.

The following certifications have been issued. The requirements of Section 222(b) (downstream producer for a firm whose workers are certified eligible to apply for TAA) of the Trade Act have been met.

TA-W No. | Subject firm | Location | Impact date
91,849 | Vallourec Drilling Products USA, Inc., Vallourec USA Corporation, Burnett Specialists, 6300 Navigation Boulevard | Houston, TX | May 24, 2015.
91,849A | Vallourec Drilling Products USA, Inc., Vallourec USA Corporation, 4424 West Sam Houston Parkway North | Houston, TX | May 24, 2015.

Negative Determinations for Worker Adjustment Assistance

In the following cases, the investigation revealed that the eligibility criteria for worker adjustment assistance have not been met for the reasons specified.

The investigation revealed that the criterion under paragraph (a)(1), or (b)(1) (employment decline or threat of separation) of section 222 has not been met.

TA-W No. | Subject firm | Location | Impact date
90,320 | Atos IT Solutions and Services Inc., NSC Global | Cheshire, CT |
91,709 | Avery Dennison, Printing and Converting Platform Team | Westborough, MA. |

The investigation revealed that the criteria under paragraphs (a)(2)(A) (increased imports) and (a)(2)(B) (shift in production or services to a foreign country) of section 222 have not been met.

TA-W No. | Subject firm | Location | Impact date
90,011 | Wilson Creek Energy, LLC, Roxcoal Inc., PBS Coals Inc., Corsa Coal Corporation | Friedens, PA |
90,055 | Solutia, Inc., Eastman Chemical Company, Henkel Corporation | Springfield, MA |
90,312 | Fab-Tech Inc., Critical Process Systems Group (CPSG), Westaff | Colchester, VT |
90,340 | Celanese Corporation, Emulsions Division, Brock Jacobs, Allied Barton | Meredosia, IL |
91,214 | Parker Aerospace, Parker Hannifin, Jackie Kabrell, AG Energy Solutions, etc | Liberty Lake, WA |
91,461 | Sprint Wireless Call Center | Temple, TX |
91,636 | Alorica, Inc., Albuquerque Division | Albuquerque, NM |
91,641 | General Electric Company, GE Capacitor and Power Quality Products, Energy Connections Division | Fort Edward, NY |
91,750 | NWS Traffic LLC, Pole Manufacturing Division, Signal Group, Inc., Peek Traffic Corporation | Tualatin, OR |
91,831 | Vesta Corporation, Unosquare LLC, Infogroup Northwest, Inc., Lexicon Solutions | Portland, OR |
91,962 | Minnesota Wire Cable, Manpower, Express Employment Professionals, Kelly Services, Adecco | Eau Claire, WI |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
92,027 | McDonald's Corporation | Columbus, OH |

The following determinations terminating investigations were issued because the petitioning groups of workers are covered by active certifications. Consequently, further investigation in these cases would serve no purpose since the petitioning group of workers cannot be covered by more than one certification at a time.

TA-W No. | Subject firm | Location | Impact date
91,850 | Verso Corporation, Wickliffe Mill, Select Staffing, U.S. Security Associates, etc | Wickliffe, KY |
91,850A | Verso Corporation, Beaver Dam Woodyard | Beaver Dam, KY |
91,850B | Verso Corporation, Eddyville Woodyard | Eddyville, KY |
91,850C | Verso Corporation, Waldschmidt Woodyard | Wickliffe, KY |
91,850D | Verso Corporation, Bethel Springs Woodyard | Bethel Springs, TN |
91,850E | Verso Corporation, Big Sandy Woodyard | Camden, TN |
91,850F | Verso Corporation, Dover Woodyard | Dover, TN |
92,039 | Norandal USA, Inc., Noranda Intermediate Holding Corporation, Great Rivers Employment, etc | Huntington, TN |
92,039A | Norandal USA, Inc., Noranda Intermediate Holding Corporation, Resourcemfg, etc | Salisbury, NC |

The following determinations terminating investigations were issued because the petitions are the subject of ongoing investigations under petitions filed earlier covering the same petitioners.

TA-W No. | Subject firm | Location | Impact date
91,982 | Caterpillar | Thomasville, GA |

I hereby certify that the aforementioned determinations were issued during the period of July 25, 2016 through August 5, 2016. These determinations are available on the Department's Web site https://www.doleta.gov/tradeact/taa/taa_search_form.cfm under the searchable listing determinations or by calling the Office of Trade Adjustment Assistance toll free at 888-365-6822.

Signed at Washington, DC, this 8th day of August 2016.
Jessica R. Webster,
Certifying Officer, Office of Trade Adjustment Assistance.

[FR Doc. 2016-23031 Filed 9-23-16; 8:45 am]

BILLING CODE 4510-FN-P